DEPARTMENT OF ENERGY

Federal Energy Regulatory Commission

[Docket No. RM95-9-013]

Open Access Same-Time Information System (OASIS) and Standards of Conduct; Notice of Filing and Request for Comments

June 5, 2001.

Take notice that on May 29, 2001, the Market Interface Committee of the North American Electric Reliability Council (MIC) filed a request to modify the Commission's OASIS Business Practice Standards adopted in Order No. 638,¹ to add a new business practice standard dealing with accepted firm daily point-to-point transmission service that has not been confirmed and a related footnote to Table 4-2 on Reservation Timing Limits. The MIC requests that the Commission implement this proposal on a mandatory, experimental basis for six months beginning no later than June 30, 2001. The MIC further states that, within four months of the effective date, it will provide the Commission with an assessment of the experiment and whether it should be revised, discontinued, or made permanent.

¹ Open Access Same-Time Information System and Standards of Conduct, Order No. 638, FERC Stats. & Regs., Regulations Preambles 1996-2000 ¶ 31,092 (2000).

We invite written comments on this filing generally and specifically invite comment on whether action on this proposal is needed by June 30, 2001, as requested by the MIC. Copies of the filing are on file with the Commission and are available for public inspection. The filing may also be viewed on the Internet at http://www.ferc.fed.us/online/rims.htm.

Comments must be filed on or before June 11, 2001 and may be filed on paper or electronically via the Internet. Those filing electronically do not need to make a paper filing. For paper filings, the original and 14 copies of such comments should be submitted to the Office of the Secretary, Federal Energy Regulatory Commission, 888 First Street, NE., Washington DC 20426 and should refer to Docket No. RM95-9-013.

Comments filed via the Internet must be prepared in WordPerfect, MS Word, Portable Document Format, or ASCII format. To file the document, access the Commission's website at www.ferc.fed.us and click on “Make An E-Filing,” and then follow the instructions for each screen. First time users will have to establish a user name and password. The Commission will send an automatic acknowledgement to the sender's E-Mail address upon receipt of comments.

User assistance for electronic filing is available at 202-208-0258 or by E-Mail to efiling@ferc.fed.us. Comments should not be submitted to the E-Mail address. All comments will be placed in the Commission's public files and will be available for inspection in the Commission's Public Reference Room at 888 First Street, NE., Washington DC 20426, during regular business hours. Additionally, all comments may be viewed, printed, or downloaded remotely via the Internet through FERC's Homepage using the RIMS link. User assistance for RIMS is available at 202-208-2222, or by E-mail to RimsMaster@ferc.fed.us.

David P. Boergers,
Secretary.

[FR Doc. 01-14549 Filed 6-8-01; 8:45 am]

BILLING CODE 6717-01-M